DEPARTMENT OF TRANSPORTATION

Federal Aviation Administration

14 CFR Part 39

[Docket No. FAA-2016-0459; Directorate Identifier 2015-NM-081-AD]

RIN 2120-AA64

Airworthiness Directives; Airbus Airplanes

AGENCY: Federal Aviation Administration (FAA), DOT.

ACTION: Notice of proposed rulemaking (NPRM).

SUMMARY: We propose to supersede Airworthiness Directive (AD) 2015-10-03, for certain Airbus Model A330-200 and -300 series airplanes, and Model A340-200 and -300 series airplanes. AD 2015-10-03 currently requires a detailed inspection for visible chrome of each affected main landing gear (MLG) sidestay upper cardan pin, associated nuts, and retainer assembly; pin replacement if needed; measurement of cardan pin clearance dimensions (gap check); corrective actions if necessary; and a report of all findings. Since we issued AD 2015-10-03, further investigation concluded that the reported MLG sidestay upper cardan pin migration event had been caused by corrosion due to lack of jointing compound and inadequate sealant application during the MLG installation. This proposed AD would require a detailed inspection of the upper cardan pin and nut threads for any corrosion, pitting, or thread damage, and if necessary, replacement of the cardan pin and nut threads. This proposed AD would also revise the applicability to include additional airplane models. We are proposing this AD to detect and correct migration of the sidestay upper cardan pin, which could result in disconnection of the sidestay upper arm from the airplane structure, and could result in a landing gear collapse and consequent damage to the airplane and injury to occupants.

DATES: We must receive comments on this proposed AD by March 7, 2016.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-0459; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Comments Invited

We invite you to send any written relevant data, views, or arguments about this proposed AD. Send your comments to an address listed under the ADDRESSES section. Include “Docket No. FAA-2016-0459; Directorate Identifier 2015-NM-081-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On April 30, 2015, we issued AD 2015-10-03, Amendment 39-18158 (80 FR 30608, May 29, 2015). AD 2015-10-03 requires actions intended to address an unsafe condition on certain Airbus Model A330-200 and -300 series airplanes, and Model A340-200 and -300 series airplanes.

Since we issued AD 2015-10-03, Amendment 39-18158 (80 FR 30608, May 29, 2015), further investigation concluded that the reported MLG sidestay upper cardan pin migration event had been caused by corrosion due to lack of jointing compound and inadequate sealant application during the MLG installation. Therefore, this issue affects any MLG that had an upper cardan pin replacement or reinstallation, regardless of MLG overhaul. Any corrosion on the upper cardan pin and nut threads would not have been detected during the currently required detailed inspection.

The European Aviation Safety Agency (EASA), which is the Technical Agent for the Member States of the European Union, has issued EASA Airworthiness Directive 2015-0079, dated May 7, 2015 (referred to after this as the Mandatory Continuing Airworthiness Information, or “the MCAI”), to correct an unsafe condition for certain Airbus Model A330-200 and -300 series airplanes, Model A340-200 and -300 series airplanes, and Model A340-541 and -642 airplanes. The MCAI states:

An A330 aeroplane equipped with Basic MLG was rolling out after landing when it experienced a nose wheel steering fault (unrelated to the safety subject addressed by this AD), which resulted in the crew stopping the aeroplane on the taxiway after vacating the runway. The subsequent investigation revealed that the right-hand MLG sidestay upper cardan pin had migrated out of position. The sidestay upper cardan nut and retainer had detached from the upper cardan pin and were found, still bolted together, in the landing gear bay.

Prompted by these findings, Airbus published Alert Operators Transmission (AOT) A32L003-14, providing inspection instructions and, as an interim solution, EASA issued AD 2014-0066 [which corresponds to FAA AD 2015-10-03, Amendment 39-18158 (80 FR 30608, May 29, 2015)] to require repetitive detailed inspections (DET) of the MLG upper cardan pin, nut and retainer. That AD also required accomplishment of a one-time gap check between wing rear spar fitting lugs and the bush flanges and, depending on findings, corrective action(s). The gap check (including corrections, as necessary) terminated the repetitive DET.

Since that [EASA] AD was issued, further investigation concluded that the reported MLG sidestay upper cardan pin migration event had been caused by corrosion, due to lack of jointing compound and inadequate sealant application during MLG installation. Therefore, this issue affects any MLG that had an upper cardan pin replacement or re-installation, irrespective of MLG overhaul. Any corrosion on the upper cardan pin and nut threads would not have been detected during the previously required DET.

This condition, if not detected and corrected, could lead to a complete migration of the sidestay upper cardan pin and a disconnection of the sidestay upper arm from the aeroplane structure, possibly resulting in MLG collapse with consequent damage to the aeroplane and injury to occupants.

To address this potential unsafe condition, Airbus published Service Bulletin (SB) A330-32-3269, SB A340-32-4301 and SB A340-32-5115 providing inspection instructions. In addition, to prevent any improper re-installation of an upper cardan pin on a MLG, Airbus amended the applicable Aircraft Maintenance Manual (AMM) on 01 October 2014.

For the reasons described above, this [EASA] AD supersedes EASA [AD] 2014-0066 and requires a one-time DET of the MLG upper cardan pin and nut threads to check for corrosion or damage on the upper cardan pin and nut threads, and, depending on findings, replacement of the damaged part(s).

As this unsafe condition could also develop on A330 freighters and A340-500/-600 aeroplanes, this [EASA] AD also applies to those aeroplanes.

You may examine the MCAI in the AD docket on the Internet at http://www.regulations.gov by searching for and locating Docket No. FAA-2016-0459.

Related Service Information Under 1 CFR Part 51

Airbus has issued the following service information:

• Airbus Service Bulletin A330-32-3269, dated February 17, 2015.

• Airbus Service Bulletin A340-32-4301, dated February 17, 2015.

• Airbus Service Bulletin A340-32-5115, dated February 17, 2015.

The service information describes procedures for a detailed inspection of the upper cardan pin and nut threads for any corrosion, pitting, or thread damage, and replacement of the cardan pin and nut threads. This service information is reasonably available because the interested parties have access to it through their normal course of business or by the means identified in the ADDRESSES section.

FAA's Determination and Requirements of this Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 95 airplanes of U.S. registry.

We also estimate that it would take about 11 work-hours per product to comply with the basic requirements of this proposed AD. The average labor rate is $85 per work-hour. Based on these figures, we estimate the cost of this proposed AD on U.S. operators to be $88,825, or $935 per product.

In addition, we estimate that any necessary follow-on actions would take about 12 work-hours and require parts costing $78,136, for a cost of $79,156 per product. We have no way of determining the number of aircraft that might need this action.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-10-03, Amendment 39-18158 (80 FR 30608, May 29, 2015), and adding the following new AD:

Airbus: Docket No. FAA-2016-0459; Directorate Identifier 2015-NM-081-AD.

(a) Comments Due Date

We must receive comments by March 7, 2016.

(b) Affected ADs

This AD replaces 2015-10-03, Amendment 39-18158 (80 FR 30608, May 29, 2015).

(c) Applicability

This AD applies to the airplanes, certificated in any category, identified in paragraphs (c)(1), (c)(2), and (c)(3) of this AD, except airplanes on which an upper cardan pin on a main landing gear (MLG) has never been replaced or reinstalled since first entry into service of the airplane.

(1) Airbus Model A330-201, -202, -203, -223, -223F, -243, -243F, -301, -302, -303, -321, -322, -323, -341, -342, and -343 airplanes, all manufacturer serial numbers .

(2) Airbus Model A340-211, -212, -213, -311, -312, and -313 airplanes, all manufacturer serial numbers.

(3) Airbus Model A340-541 and -642 airplanes, all manufacturer serial numbers.

(d) Subject

Air Transport Association (ATA) of America Code 32, Landing Gear.

(e) Reason

This AD was prompted by a report that an MLG sidestay upper cardan pin migration event had been caused by corrosion due to lack of jointing compound and inadequate sealant application during the MLG installation. We are issuing this AD to detect and correct migration of the sidestay upper cardan pin, which could result in disconnection of the sidestay upper arm from the airplane structure, and could result in a landing gear collapse and consequent damage to the airplane and injury to occupants.

(f) Compliance

Comply with this AD within the compliance times specified, unless already done.

(g) Definition

For the purpose of this AD, an upper cardan pin on a MLG is affected if it has been installed as a replacement part, or reinstalled since first entry of the airplane into service, and if the installation was accomplished using the applicable airplane maintenance manual at a revision level prior to October 1, 2014.

(h) Inspection and Replacement

(1) For an affected upper cardan pin on an MLG: Before exceeding 96 months since its latest installation on an airplane, or within 12 months after the effective date of this AD, whichever occurs later, do a detailed inspection of the upper cardan pin and nut threads for any corrosion, pitting, or thread damage, in accordance with the Accomplishment Instructions of the applicable service information specified in paragraph (i) of this AD.

(2) If, during the detailed inspection specified in paragraph (h)(1) of this AD, any corrosion, pitting, or thread damage is found, before further flight, replace the upper cardan pin and/or nut, as applicable, in accordance with the Accomplishment Instructions of the applicable service information specified in paragraph (i) of this AD.

(i) Applicable Service Information

Do the actions required by paragraph (h) of this AD in accordance with the Accomplishment Instructions of the applicable service information identified in paragraphs (i)(1), (i)(2), and (i)(3) of this AD.

(1) Airbus Service Bulletin A330-32-3269, dated February 17, 2015 (for Airbus Model A330-201, -202, -203, -223, -223F, -243, -243F, -301, -302, -303, -321, -322, -323, -341, -342, and -343 airplanes).

(2) Airbus Service Bulletin A340-32-4301, dated February 17, 2015 (for Airbus Model A340-211, -212, -213, -311, -312, and -313 airplanes).

(3) Airbus Service Bulletin A340-32-5115, dated February 17, 2015 (for Airbus Model A340-541 and -642 airplanes).

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM 116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(k) Related Information

(1) Refer to Mandatory Continuing Airworthiness Information (MCAI) EASA Airworthiness Directive 2015-0079, dated May 7, 2015, for related information. This MCAI may be found in the AD docket on the Internet at http://www.regulations.gov by searching for and locating Docket No. FAA-2016-0459.

(2) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on January 8, 2016.
Jeffrey E. Duven,
Manager, Transport Airplane Directorate, Aircraft Certification Service.

[FR Doc. 2016-00944 Filed 1-20-16; 8:45 am]

BILLING CODE 4910-13-P